DEPARTMENT OF TRANSPORTATION

Federal Aviation Administration

Twelfth Meeting: RTCA Special Committee 216/Aeronautical Systems Security

AGENCY: Federal Aviation Administration (FAA), DOT.

ACTION: Notice of RTCA Special Committee 216 meeting; Aeronautical Systems Security.

SUMMARY: The FAA is issuing this notice to advise the public of a meeting of RTCA Special Committee 216: Aeronautical Systems Security.

DATES: The meeting will be held February 9-11, 2010 from 9 a.m. to 5 p.m.

ADDRESSES: The meeting will be held at RTCA, Inc., 1828 L Street, NW., Suite 805, Washington, DC 20036.

FOR FURTHER INFORMATION CONTACT: RTCA Secretariat, 1828 L Street, NW., Suite 805, Washington, DC, 20036; telephone (202) 833-9339; fax (202) 833-9434; Web site http://www.rtca.org.

SUPPLEMENTARY INFORMATION: Pursuant to section 10(a) (2) of the Federal Advisory Committee Act (Pub. L. 92-463, 5 U.S.C., Appendix 2), notice is hereby given for a Special Committee 216/Aeronautical Systems Security meeting. The agenda will include:

• Welcome/Introductions/Administrative Remarks.

• Agenda Overview and Approval of the Summary of the 11th meeting held November 18-20, 2009, (RTCA Paper No. 257-09/SC216-023).

• EUROCAE WG-72 Report.

• Subgroup and Action Item Reports:

• SOW reviews;

• Schedule.

• Subgroup Meetings/Break-outs.

• Subgroup Reports on Break-outs.

• Establish Dates, Location, and Agenda for Next Meeting(s).

• Any Other Business.

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on January 7, 2010.
Francisco Estrada C.,
RTCA Advisory Committee.

[FR Doc. 2010-660 Filed 1-14-10; 8:45 am]

BILLING CODE 4910-13-P